DEPARTMENT OF THE INTERIOR

National Park Service

Public notice.

SUMMARY: Public notice is hereby given that the National Park Service proposes to award two temporary concession contracts, one at Watch Hill and the other at Sailor's Haven to include the operation of marina, food service, campground, and sundry merchandise sales facilities and services for the public at these locations within Fire Island National Seashore, New York for a term not to exceed October 31, 2004. It is necessary to award these contracts in order to avoid the interruption of visitor services.

SUPPLEMENTARY INFORMATION: These temporary concession contracts are being awarded to the Davis Park Marine Service, Inc., Patchogue, New York and the Howard T. Rose Company, Inc., Sayville, New York.

This action is issued pursuant to 36 CFR 51.24(a). This is not a request for proposals and no prospectus is being issued at this time. The Secretary intends to issue a competitive solicitation for offers for a long-term operator for various services in the near future. You may be placed on a mailing list for receiving information regarding the competitive solicitation by sending a written request to the following address: Superintendent, Fire Island National Seashore, 120 Laurel Street, Patchogue, NY 11772.

EFFECTIVE DATE: August 26, 2004.

FOR FURTHER INFORMATION CONTACT: Concession Program Manager, National Park Service, Washington, DC 20240, Telephone 202/513-7156.

Dated: March 27, 2004.
Richard G. Ring,
Associate Director, Administration, Business Practices and Workforce Development.

[FR Doc. 04-16990 Filed 7-26-04; 8:45 am]

BILLING CODE 4312-53-M